DEPARTMENT OF TRANSPORTATION

Federal Aviation Administration

14 CFR Part 39

[Docket No. FAA-2021-0175; Project Identifier 2001-SW-33-AD; Amendment 39-21643; AD 2021-14-16]

RIN 2120-AA64

Airworthiness Directives; Airbus Helicopters (Type Certificate Previously Held by Eurocopter France)

AGENCY: Federal Aviation Administration (FAA), DOT.

ACTION: Final rule.

SUMMARY: The FAA is adopting a new airworthiness directive (AD) for all Airbus Helicopters (type certificate previously held by Eurocopter France) Model SA-365N, SA-365N1, AS-365N2, AS 365 N3, and SA-366G1 helicopters. This AD was prompted by a quality control check that revealed some stretcher attachment holes were improperly located on the frame where there was insufficient edge distance. This AD requires measuring the 9-degree frame flange (frame) for the correct edge distance of the four attachment holes for the stretcher support and inspecting for cracks, and repairing the frame, if necessary, and installation of a reinforcement plate (reinforcing angle), as specified in two Direction Générale de l'Aviation Civile (DGAC) ADs, which are incorporated by reference. The FAA is issuing this AD to address the unsafe condition on these products.

DATES: This AD is effective August 24, 2021.

The Director of the Federal Register approved the incorporation by reference of certain publications listed in this AD as of August 24, 2021.

ADDRESSES: For DGAC material incorporated by reference (IBR) in this AD, contact the European Union Aviation Safety Agency (EASA), Konrad-Adenauer-Ufer 3, 50668 Cologne, Germany; telephone +49 221 8999 000; email ADs@easa.europa.eu; internet www.easa.europa.eu. You may find the DGAC material on the EASA website at https://ad.easa.europa.eu. For American Eurocopter material, contact Airbus Helicopters, 2701 N Forum Drive, Grand Prairie, TX 75052; telephone 972-641-0000 or 800-232-0323; fax 972-641-3775; or at https://www.airbus.com/helicopters/services/technical-support.html. You may view the DGAC and American Eurocopter material at the FAA, Office of the Regional Counsel, Southwest Region, 10101 Hillwood Pkwy., Room 6N-321, Fort Worth, TX 76177. Service information that is incorporated by reference is also available at https://www.regulations.gov by searching for and locating Docket No. FAA-2021-0175.

Examining the AD Docket

You may examine the AD docket at https://www.regulations.gov by searching for and locating Docket No. FAA-2021-0175; or in person at Docket Operations between 9 a.m. and 5 p.m., Monday through Friday, except Federal holidays. The AD docket contains this final rule, the DGAC ADs, any comments received, and other information. The street address for Docket Operations is U.S. Department of Transportation, Docket Operations, M-30, West Building Ground Floor, Room W12-140, 1200 New Jersey Avenue SE, Washington, DC 20590.

FOR FURTHER INFORMATION CONTACT: Blaine Williams, Aerospace Engineer, Cabin Safety & Environmental Systems Section, Los Angeles ACO Branch, Compliance & Airworthiness Division, 3960 Paramount Blvd., Lakewood, CA 90712; telephone 562-627-5371; email blaine.williams@faa.gov.

SUPPLEMENTARY INFORMATION:

Background

The DGAC, which was the Technical Agent for France, issued DGAC AD 2001-061-053(A), dated February 21, 2001 (DGAC AD 2001-061-053(A)) for certain Model SA-365N, SA-365N1, AS-365N2, and AS 365 N3 helicopters; and DGAC AD 2001-283-025(A), dated July 11, 2001 (DGAC AD 2001-283-025(A)) for all Model SA-366G1 helicopters (also referred to as the Mandatory Continuing Airworthiness Information, or the MCAI), to correct an unsafe condition for those helicopters.

The FAA issued a second supplemental notice of proposed rulemaking (SNPRM) to amend 14 CFR part 39 by adding an AD that would apply to all Airbus Helicopters (type certificate previously held by Eurocopter France) Model SA-365N, SA-365N1, AS-365N2, AS 365 N3, and SA-366G1 helicopters. The second SNPRM published in the Federal Register on May 7, 2021 (86 FR 24556). The second SNPRM proposed to require inspecting the frame for the correct edge distance of the four attachment holes of the stretcher support and for a crack, and repairing the frame, if necessary, and installation of a reinforcement plate (reinforcing angle) on the frame, as specified in DGAC AD 2001-061-053(A) and DGAC AD 2001-283-025(A). The second SNPRM also included references to an engineering report that lists approved U.S. alternative fasteners and materials that may be used in any required repairs. The second SNPRM was issued because a significant amount of time elapsed since the first SNPRM was published.

The FAA is issuing this AD to address failure of the 9-degree frame due to a crack at the stretcher support attachment holes, which could result in loss of a passenger door, damage to the rotor system, and subsequent loss of control of the helicopter. See the MCAI for additional background information.

Discussion of Final Airworthiness Directive

Comments

The FAA received no comments on the second SNPRM or on the determination of the costs.

Conclusion

The FAA reviewed the relevant data and determined that air safety and the public interest require adopting this final rule as proposed, except for minor editorial changes. The FAA has determined that these minor changes:

• Are consistent with the intent that was proposed in the second SNPRM for addressing the unsafe condition; and

• Do not add any additional burden upon the public than was already proposed in the second SNPRM.

Related Service Information Under 1 CFR Part 51

DGAC AD 2001-061-053(A) and DGAC AD 2001-283-025(A) describe procedures for measuring the edge distance of the webs at the four attachment holes of the stretcher support on the left and right sides of the 9-degree frame, and additional actions depending on the findings. The additional actions include repetitively inspecting the frame for cracking, repair if necessary, and installation of a reinforcement plate (reinforcing angle) on the frame. These documents are distinct since they refer to different helicopter models.

American Eurocopter Engineering Report No. AEC/03R-E-005, “Addendum ASB 53.00.42 and 53.00.43 AS365,” dated January 29, 2003, specifies U.S. and European rivet equivalent part numbers, U.S. rivet part numbers with acceptable substitute materials with greater strength properties, and 5 rivet, 6 rivet, and pin Hi-lok alternatives.

This material is reasonably available because the interested parties have access to it through their normal course of business or by the means identified in the ADDRESSES section.

Differences Between This AD and the MCAI

The FAA has determined that acceptable U.S. alternatives to the fasteners and materials needed to perform repairs or modifications are listed in American Eurocopter Engineering Report No. AEC/03R-E-005 “Addendum ASB 53.00.42 and 53.00.043 AS365”, dated January 29, 2003.

Where DGAC AD 2001-061-053(A) exempts helicopters that were delivered after January 31, 2001, from the applicability, this AD does not exempt those helicopters.

Costs of Compliance

The FAA estimates that this AD affects 31 helicopters of U.S. registry. The FAA estimates the following costs to comply with this AD:

Estimated Costs For Required Actions
Labor cost | Parts cost | Cost per product | Cost on U.S. operators
3 work-hours × $85 per hour = $255 | $100 | $355 | $11,005

The FAA estimates the following costs to do any necessary on-condition actions that would be required based on the results of any required actions. The FAA has no way of determining the number of helicopters that might need these on-condition actions:

Estimated Costs of On-Condition Action
Labor cost | Parts cost | Cost per product
Up to 8 work-hours × $85 per hour = $680 | $250 | Up to $930

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-14-16 Airbus Helicopters (Type Certificate Previously Held by Eurocopter France): Amendment 39-21643; Docket No. FAA-2021-0175; Project Identifier 2001-SW-33-AD.

(a) Effective Date

This airworthiness directive (AD) is effective August 24, 2021.

(b) Affected ADs

None.

(c) Applicability

This AD applies to all Airbus Helicopters (type certificate previously held by Eurocopter France) Model SA-365N, SA-365N1, AS-365N2, AS 365 N3, and SA-366G1 helicopters, certificated in any category.

(d) Subject

Joint Aircraft Service Component (JASC) Code 5311, Fuselage Main, Frame.

(e) Reason

This AD was prompted by a quality control check that revealed some stretcher attachment holes were improperly located on the frame where there was insufficient edge distance. The FAA is issuing this AD to address failure of the 9-degree frame flange (frame) due to a crack at the stretcher support attachment holes, which could result in loss of a passenger door, damage to the rotor system, and subsequent loss of control of the helicopter.

(f) Compliance

Comply with this AD within the compliance times specified, unless already done.

(g) Requirements

Except as specified in paragraph (h) of this AD: Comply with all required actions and compliance times specified in, and in accordance with the applicable Direction Générale de l'Aviation Civile (DGAC) ADs specified in paragraphs (g)(1) and (2) of this AD.

(1) For Model SA-365N, SA-365N1, AS-365N2, and AS 365 N3 helicopters: DGAC AD 2001-061-053(A), dated February 21, 2001, (DGAC AD 2001-061-053(A)).

(2) For Model SA-366G1 helicopters: DGAC AD 2001-283-025(A), dated July 11, 2001 (DGAC AD 2001-283-025(A)).

(h) Exceptions to DGAC AD 2001-061-053(A) and DGAC AD 2001-283-025(A)

(1) Where paragraph 3.1 of DGAC AD 2001-061-053(A) and DGAC AD 2001-283-025(A) specifies an initial compliance time to do the measurement, for this AD, do the measurement within 50 hours time-in-service (TIS) after the effective date of this AD.

(2) Where paragraph 3.1. of DGAC AD 2001-061-053(A) and DGAC AD 2001-283-025(A) specifies to do a measurement, for this AD, do an inspection of the area around the attachment holes for cracks concurrently with the measurement.

(3) Where paragraph 3.2.1.a) of DGAC AD 2001-061-053(A) and DGAC AD 2001-283-025(A) specifies “every 550 flight hours, check that there is no crack in the flange,” for this AD, inspect (check) the area around the attachment holes for cracks at intervals not to exceed 550 hours TIS.

(4) Where paragraph 3.2.1.b) of DGAC AD 2001-061-053(A) and DGAC AD 2001-283-025(A) requires installation of a reinforcement plate (reinforcing angle) on the flange for certain helicopters, do the installation within 550 hours TIS after accomplishment of the measurement specified in paragraph 3.1. of DGAC AD 2001-061-053(A) and DGAC AD 2001-283-025(A).

(5) Where the service information referred to in DGAC AD 2001-061-053(A) and DGAC AD 2001-283-025(A) specifies to perform a dye penetrant crack inspection “if in doubt,” this AD requires performing a dye penetrant inspection.

(6) Where paragraph 3.2.2. of DGAC AD 2001-061-053(A) and DGAC AD 2001-283-025(A) specifies to do various actions specified in paragraphs 3.2.2.a), b), and c) of those ADs, for this AD, if any frame is cracked, before further flight, repair the frame. Acceptable U.S. alternatives to the fasteners and materials needed to perform repairs or modifications are listed in American Eurocopter Engineering Report No. AEC/03R-E-005, “Addendum ASB 53.00.42 and 53.00.43 AS365”, dated January 29, 2003.

(7) Where the Note in paragraph 3.2.2. of DGAC AD 2001-061-053(A) and DGAC AD 2001-283-025(A) specifies the instructions are no longer applicable after a customized repair has been carried out, for this AD, modifying or repairing the frame constitutes terminating action for the requirements of this AD.

(i) Special Flight Permit

Special flight permits, as described in 14 CFR 21.197 and 21.199, are prohibited.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Blaine Williams, Aerospace Engineer, Cabin Safety & Environmental Systems Section, Los Angeles ACO Branch, Compliance & Airworthiness Division, 3960 Paramount Blvd., Lakewood, CA 90712; telephone 562-627-5371; email blaine.williams@faa.gov.

(l) Material Incorporated by Reference

(1) The Director of the Federal Register approved the incorporation by reference of the service information listed in this paragraph under 5 U.S.C. 552(a) and 1 CFR part 51.

(2) You must use this service information as applicable to do the actions required by this AD, unless the AD specifies otherwise.

(i) Direction Générale de l'Aviation Civile (DGAC) AD 2001-061-053(A), dated February 21, 2001.

(ii) DGAC AD 2001-283-025(A), dated July 11, 2001.

(iii) American Eurocopter Engineering Report No. AEC/03R-E-005, “Addendum ASB 53.00.42 and 53.00.43 AS365”, dated January 29, 2003.

(3) For DGAC AD 2001-061-053(A) and DGAC AD 2001-283-025(A), contact the European Union Aviation Safety Agency (EASA), Konrad-Adenauer-Ufer 3, 50668 Cologne, Germany; telephone +49 221 8999 000; email ADs@easa.europa.eu; internet www.easa.europa.eu. You may find these DGAC ADs on the EASA website at https://ad.easa.europa.eu.

(4) For American Eurocopter material identified in this AD, contact Airbus Helicopters, 2701 N Forum Drive, Grand Prairie, TX 75052; telephone 972-641-0000 or 800-232-0323; fax 972-641-3775; or at https://www.airbus.com/helicopters/services/technical-support.html.

(5) You may view this service information at the FAA, Office of the Regional Counsel, Southwest Region, 10101 Hillwood Pkwy., Room 6N-321, Fort Worth, TX 76177. For information on the availability of this material at the FAA, call (817) 222-5110.

(6) You may view this service information that is incorporated by reference at the National Archives and Records Administration (NARA). For information on the availability of this material at NARA, email: fedreg.legal@nara.gov, or go to: https://www.archives.gov/federal-register/cfr/ibr-locations.html.

Issued on July 2, 2021.
Ross Landes,
Deputy Director for Regulatory Operations, Compliance & Airworthiness Division, Aircraft Certification Service.

[FR Doc. 2021-15302 Filed 7-19-21; 8:45 am]

BILLING CODE 4910-13-P